ENVIRONMENTAL PROTECTION AGENCY

[OAR-2004-0501; FRL-7995-8]

Agency Information Collection Activities: Submission for OMB Review and Approval; Comment Request; Reporting Requirements Under EPA's Green Power Partnership and Combined Heat and Power (CHP) Partnership, ICR Number 2173.01

AGENCY: Environmental Protection Agency (EPA).

ACTION: Notice.

SUMMARY: In compliance with the Paperwork Reduction Act (44 U.S.C. 3501 et seq.), this notice announces that EPA is planning to submit the following proposed Information Collection Request (ICR) to the Office of Management and Budget (OMB) for review and approval. This is a request for a new collection.

DATES: Additional comments may be submitted on or before December 12, 2005.

ADDRESSES: Submit your comments, referencing docket ID number OAR-2004-0501, to (1) EPA online using EDOCKET (our preferred method), by e-mail to a-and-r-Docket@epa.gov, or by mail to: Environmental Protection Agency, EPA Docket Center (EPA/DC), Air and Radiation Docket and Information Center, EPA West, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Jim Sullivan, Climate Protection Partnerships Division, Office of Atmospheric Programs, 6202J, Environmental Protection Agency, 1200 Pennsylvania Avenue, NW., Washington, DC 20460; telephone number: (202) 343-9241; fax number: (202) 565-2134; e-mail address sullivan.jamest@epa.gov.

SUPPLEMENTARY INFORMATION: EPA has submitted the following ICR to OMB for review and approval according to the procedures prescribed in 5 CFR 1320.12. On May 4, 2004 (70 FR 23152), EPA sought comments on this ICR pursuant to 5 CFR 1320.8(d). EPA received no comments.

EPA has established a public docket for this ICR under Docket ID No. OAR-2004-0501, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice, and according to the following detailed instructions: Submit your comments to EPA online using EDOCKET (our preferred method), by e-mail to a-and-r-docket@epamail.epa.gov, or by mail to: EPA Docket Center, Environmental Protection Agency, Air and Radiation Docket and Information Center, MC 6102T, 1200 Pennsylvania Avenue, NW., Washington, DC 20460.

EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Reporting Requirements Under EPA's Green Power Partnership and Combined Heat and Power (CHP) Partnership.

Abstract: In an effort to aid implementation of the President's May 2001 National Energy Strategy, as well as the President's February 2002 Climate Change Strategy, EPA has launched two new partnership programs with industry and other stakeholders: the Green Power Partnership and the CHP Partnership. These partnership programs encourage organizations to invest in clean, efficient energy technologies, including renewable energy and CHP.

The EPA has developed this ICR to obtain authorization to collect information from organizations participating in the Green Power Partnership and CHP Partnership to ensure that they are meeting their voluntary renewable energy and CHP goals and to assure the credibility of these partnership programs. Organizations that join these programs voluntarily agree to the following respective actions: (1) Designating a Green Power or CHP Partnership liaison; (2) for the Green Power Partnership, reporting to EPA, on an annual basis, their progress toward their green power commitment via a 1-page Green Power Partner Yearly Report; (3) for the CHP Partnership, reporting to EPA information on their existing CHP projects and project development activity via the CHP Partner Projects Data Form. The EPA uses the data obtained from its Partners to assess the success of these programs in achieving their national energy and greenhouse gas reduction goals.

An agency may not conduct or sponsor, and a person is not required to respond to, a collection of information unless it displays a currently valid OMB control number. The OMB control numbers for EPA's regulations are listed in 40 CFR part 9 and 48 CFR chapter 15.

Burden Statement: The annual public reporting and recordkeeping burden for this three (3) year collection of information is estimated to equal 3980 hours and to average 3.4 hours per year per respondent. The average number of annual burden hours per type of response is: 4.9 hours for a Letter of Intent (a one-time burden for Green Power and CHP Partners); for the Green Power Partnership, 2.4 hours for the Green Power Partner Yearly Report; for the CHP Partnership, 2.0 hours for end user Partners to complete the CHP Partner Projects Data Form report on completed CHP projects (a one-time report), or 1.7 hours per year for CHP project updates for Partners with ongoing CHP project development activities. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Corporations, institutions, state, local, and tribal agencies that voluntarily agree to work with EPA to purchase or market green power or to support the use of CHP.

Estimated Number of Respondents: 1,164.

Frequency of Response: Annually, semiannually.

Estimated Total Annual Hour Burden: 3,980 hours.

Estimated Total Annual Costs: $298,886, which includes $0 annualized capital/startup costs, $3,248 annual O&M costs, and $295,638 annual labor costs.

Changes in the Estimates: This does not apply, as this is a new collection.

Dated: October 20, 2005.
Sara Hisel-McCoy,
Acting Director, Collection Strategies Division.

[FR Doc. 05-22464 Filed 11-9-05; 8:45 am]

BILLING CODE 6560-50-P